FEDERAL ELECTION COMMISSION

Sunshine Act Notices

Previously Announced Day and Time: Tuesday, November 16, 2004, 10 a.m. Meeting Closed to the Public. This meeting was cancelled.

Date and Time: Tuesday, November 30, 2004 at 10 a.m.

Place: 999 E Street, NW., Washington, DC.

Status: This meeting will be closed to the public.

Items to be Discussed: Compliance matters pursuant to 2 U.S.C. 437g.

Audits conducted pursuant to 2 U.S.C. section 437g, section 438(b), and Title 26, U.S.C.

Matters concerning participation in civil actions or proceedings or arbitration.

Internal personnel rules and procedures or matters affecting a particular employee.

Date and Time: Thursday, December 2, 2004 at 10 a.m.

Place: 999 E Street, NW., Washington, DC (Ninth Floor).

Status: This meeting will be open to the public.

Items to be Discussed: Correction and Approval of Minutes.

Draft Advisory Opinion 2004-40: The Libertarian Party of Maryland by Joseph J. Miller, Treasurer.

Notice of Proposed Rulemaking on Party Donations to Tax-exempt Organizations.

Routine Administrative Matters.

FOR FURTHER INFORMATION CONTACT: Mr. Robert Biersack, Press Officer, Telephone: (202) 694-1220.

Mary W. Dove,
Secretary of the Commission.

[FR Doc. 04-26199 Filed 11-22-04; 2:49 pm]

BILLING CODE 6715-01-M